ENVIRONMENTAL PROTECTION AGENCY

[FRL-6867-2]

Regulatory Reinvention (XL) Pilot Projects

AGENCY: Environmental Protection Agency (EPA).

ACTION: Notice of availability of Draft Monitoring Plan Agreement for the Fort Worth, Texas XL Project.

SUMMARY: EPA is today requesting comments on a draft Monitoring Plan Agreement for Phase 1 of the Fort Worth XL Project.

DATES: The period for submission of comments on the draft Monitoring Plan Agreement ends on September 22, 2000.

ADDRESSES: All comments on the draft Monitoring Plan Agreement should be sent to: David Beck, U.S. EPA, Mail Drop 10, Research Triangle Park, NC 27711. Comments also may be faxed to David Beck at 919-541-2464 or sent via electronic mail to: beck.david@epa.gov.

FOR FURTHER INFORMATION CONTACT: To obtain a copy of the draft Monitoring Plan Agreement, contact: Adele Cardenas of EPA Region VI at 214-665-7210 or electronically at cardenas.adele@epa.gov or David Beck at 919-541-5421 or electronically at beck.david@epa.gov. In addition, project documents are located at EPA Region VI, First Interstate Bank Tower at Fountain Place, 1445 Ross Avenue, Suite 1200, Dallas, TX 75202. Questions to EPA regarding the documents can be directed to Adele Cardenas at 214-665-7210 or David Beck at 919-541-5421. Additional information on Project XL, including documents referenced in this notice, other EPA policy documents related to Project XL, application information, and descriptions of existing XL projects and proposals, is available via the internet at “http://www.epa.gov/ProjectXL.”

SUPPLEMENTARY INFORMATION: Project XL, announced in the Federal Register on May 23, 1995 (60 FR 27282), gives regulated entities the opportunity to develop alternative strategies that will replace or modify specific regulatory requirements on the condition that they produce greater environmental benefits. Under the Fort Worth XL project, the City of Fort Worth proposes to demonstrate that use of an alternative demolition method on abandoned buildings containing asbestos will protect the public from asbestos emissions as well as the demolition method specified in an asbestos emission standard issued by EPA under section 112 of the Clean Air Act. Moreover, the City expects that their lower cost demolition method will allow them to accelerate demolitions, thereby eliminating sites potentially harboring illegal activities and reducing safety/health hazards associated with the abandoned structures. To demonstrate the effectiveness of their method, the City will monitor asbestos emissions during the demolition of a single structure in Phase 1 of the project and, if Phase 1 monitoring results indicate the Fort Worth method is equivalent to the regulatory method, two additional structures during Phase 2. The project entails a set number of Fort Worth method demolitions under a third and final phase of the project, provided the results of Phase 2 continue to show equivalency.

The draft Monitoring Plan Agreement is a voluntary agreement developed with input from the City of Fort Worth, the Texas Department of Health, and EPA which lays out the protocol for capturing and analyzing asbestos emissions for Phase 1 of the project. The agreement also spells out the criteria by which the Fort Worth method can be shown equivalent to the Federal method, for the purposes of proceeding to Phase 2 of the project. The City does not require regulatory relief to perform the Phase 1 demolition, since the structure to be demolished is of a type that can be demolished under the asbestos standard using the Fort Worth method. To conduct phases 2 and 3 of the project, Fort Worth will need regulatory relief (specifically from 40 CFR part 61 subpart M—National Emission Standard for Asbestos). The details of these phases will be negotiated with stakeholders and set forth in a Final Project Agreement (FPA). A draft of the FPA will be available for public comment through a future Federal Register notice.

Elizabeth A. Shaw,
Director, Office of Environmental Policy Innovation.

[FR Doc. 00-23149 Filed 9-7-00; 8:45 am]

BILLING CODE 6560-50-U